DEPARTMENT OF JUSTICE

Antitrust Division

Notice Pursuant to the National Cooperative Research and Production Act of 1993—American Society of Baking

Notice is hereby given that, on September 22, 2004, pursuant to section 6(a) of the National Cooperative Research and Production Act of 1993, 15 U.S.C. 4301 et seq. (“the Act”), American Society of Baking (“ASB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Society of Baking, Sonoma, CA. The nature and scope of ASB's standards development activities are: As Secretariat for the American National Standard for Bakery Equipment Safety and Sanitation Requirements, ASB administers the standards that apply to the design, construction, installation, safe operation and maintenance of bakery machinery and equipment. The purpose of the standards is to provide reasonable safety for bakery workers; and they are intended as a guide to Federal, State and municipal authorities in drafting regulations; as voluntary application; and as a standard reference for safety requirements for the use of bakery machinery and for equipment manufacturers and concerns employing such machinery. The Baking Equipment Safety and Sanitation Standards are on file with the American National Standards Institute, Inc., 11 West 42nd Street, New York, NY.

Dorothy B. Fountain,
Deputy Director of Operations, Antitrust Division.

[FR Doc. 04-25854 Filed 11-19-04; 8:45 am]

BILLING CODE 4410-11-M